DEPARTMENT OF EDUCATION

[CFDA No. 84.310A]

Parental Assistance Program

AGENCY: Office of Elementary and Secondary Education, Department of Education.

ACTION: Notice of Final Priority for Fiscal Year (FY) 2001.

SUMMARY: The Secretary announces a final funding priority for the FY 2001 grant competition under Parental Assistance Program (20 U.S.C. 5911 et seq.). This program provides grants to eligible non-profit organizations, and eligible non-profit organizations in consortium with local educational agencies (LEAs), to establish parental information and resource centers. Under the funding priority, the Secretary gives competitive preference to eligible non-profit organizations that apply in consortium with one or more LEAs with low-performing schools and propose to implement comprehensive strategies designed to strengthen school-family-community partnerships in order to help children in low-performing schools reach challenging academic standards.

EFFECTIVE DATE: June 6, 2001.

SUPPLEMENTARY INFORMATION: On January 12, 2001, we published in the Federal Register a notice of proposed priority (NPP) for the FY 2001 grant competition under the Parental Assistance Program. In the NPP we announced our intent to give applicants that meet the preference up to 10 additional points in the competition with the number of points awarded to be determined on the basis of how well the applicant addressed the competitive preference. This notice of final funding priority announces the final competitive preference for the competition.

Note: This notice of final priority does not solicit applications. A notice inviting applications under this competition is published elsewhere in this issue of the Federal Register.

Analysis of Comments and Changes

Four parties submitted comments in response to the proposed priority. Two of the parties supported the priority, one party requested that the Department specify the percentage of grant funds that should be focused on the priority, and another party indicated that a parent center-LEA consortium priority would eliminate the autonomy and effectiveness of the centers. The comments of the latter two parties are summarized below.

Comment: One commenter recommended that the Department indicate the amount of staff and funds that should be focused on the priority.

Discussion: The Secretary believes that applicants should be given as much flexibility as possible in designing proposals that best address the funding priority. The number of points that an applicant receives under the priority should be based on how well the applicant addresses the priority, and not on the amount of resources that the applicant proposes to spend on the priority.

Changes: None.

Comment: One commenter indicated that requiring parent centers to work more formally with school districts in a consortium would eliminate the autonomy and effectiveness of the centers. The commenter believes that by working independently of schools, the centers can better assist families who do not feel connected with the schools and provide families with the tools needed to create change in the schools.

Discussion: The Secretary is not requiring non-profit organizations to apply in consortium with one or more LEAs. However, the Secretary believes that strengthening school-community-family partnerships will help children in low-performing schools succeed in school. Under the priority, the parent centers still will have considerable autonomy in designing proposals that best meet local needs and in coordinating with low-performing schools in implementing comprehensive strategies to assist children in these schools. The Secretary notes that the legislation explicitly supports consortia of non-profit organizations and school districts. The priority is designed to encourage such consortia.

Changes: None.

Competitive Preference: Under 34 CFR 75.105(c)(2), the Secretary gives a competitive preference in the FY 2001 competition under the Parental Assistance Program. To receive this preference, an applicant must—

(1) Consist of a consortium that includes a non-profit organization and one or more LEAs with low-performing schools. The low-performing schools must be schools identified as in need of improvement under section 1116(c) of Title I of the Elementary and Secondary Education Act of 1965, as amended.

(2) Propose to implement comprehensive strategies designed to strengthen school-family-community partnerships in order to help children in the low-performing schools reach challenging academic standards. The applicant must clearly describe the role of the non-profit organization and the LEA(s) in conducting these activities with the low-performing schools.

(3) Provide documentation from the identified low-performing schools demonstrating that the schools will cooperate and coordinate with the applicant in implementing the proposed activities.

An applicant that meets the competitive preference will receive up to 10 points in the competition. These points are in addition to any points the applicant earns under the selection criteria. The number of points that will be awarded will be determined on the basis of how well the applicant addresses the competitive preference.

FOR FURTHER INFORMATION CONTACT: Rachael Couch, (202) 401-0039, U.S. Department of Education, 400 Maryland Avenue, SW., FOB 6, Room 3E243, Mail Stop 6400, Washington, DC 20202. The e-mail address for Ms. Couch is: Rachael.couch@ed.gov.

Individuals who use a telecommunications device for the deaf (TDD) may call the Federal Information Relay Service (FIRS) at 1-888-877-8339.

Individuals with disabilities may obtain this document in an alternative format (e.g., Braille, large print, audiotape, or computer diskette) on request to the contact person listed above.

Individuals with disabilities may also obtain a copy of the application package in an alternative format on request to the contact person listed. However, the Department is not able to reproduce in an alternative format the standard forms included in the application package.

Electronic Access to This Document

You may view this document, as well as other Department of Education documents published in the Federal Register, in text or Portable Document Format (PDF) on the Internet at the following site: www.ed.gov/legislation/FedRegister

To use PDF you must have Adobe Acrobat Reader, which is available free at the preceding site. If you have questions about using PDF, call the U.S. Government Printing Office (GPO), toll free, at 1-888-293-6498, or in the Washington, DC area at (202) 512-1530.

Note: The official version of this document is the document published in the Federal Register. Free Internet access to the official edition of the Federal Register and the Code of Federal Regulations is available on GPO Access at: http://www.access.gpo.gov/nara/index.html.

Program Authority: 20 U.S.C. 5911 et seq.

Dated: May 1, 2001.
Thomas M. Corwin,
Acting Deputy Assistant Secretary for Elementary and Secondary Education.

[FR Doc. 01-11439 Filed 5-4-01; 8:45 am]

BILLING CODE 4000-01-U